NUCLEAR REGULATORY COMMISSION

10 CFR Part 30

[NRC-2005-0001]

RIN 3150-AH57

Protection of Safeguards Information; Correction

AGENCY: Nuclear Regulatory Commission.

ACTION: Final rule; correction.

SUMMARY: This document corrects a rule that appeared in the Federal Register on October 24, 2008 (73 FR 63546), that amends the regulations for the protection of Safeguards Information (SGI) to protect SGI from inadvertent release and unauthorized disclosure which might compromise the security of nuclear facilities and materials. This document is necessary to correct an erroneous amendatory instruction which resulted in duplicate paragraph designations.

DATES: The correction is effective February 23, 2009, the date the original rule becomes effective.

FOR FURTHER INFORMATION CONTACT: Michael T. Lesar, Chief, Rulemaking, Directives and Editing Branch, Office of Administration, Nuclear Regulatory Commission, Washington, DC 20555-0001, telephone 301-492-3663, e-mail Michael.Lesar@nrc.gov.

SUPPLEMENTARY INFORMATION: In FR doc. E8-24904, published on October 24, 2008, on page 63570, in the third column, instruction 13 is corrected to read as follows:

13. In § 30.34, paragraph (l) is added to read as follows:

§ 30.34 Terms and conditions of licenses.

* * * * *

(l) Each licensee shall ensure that Safeguards Information is protected against unauthorized disclosure in accordance with the requirements in §§ 73.21 and 73.23 of this chapter, as applicable.

Dated at Rockville, Maryland, this 13th day of February 2009.
For the Nuclear Regulatory Commission.
Michael T. Lesar,
Chief, Rulemaking, Directives, and Editing Branch, Division of Administrative Services, Office of Administration.

[FR Doc. E9-3629 Filed 2-19-09; 8:45 am]

BILLING CODE 7590-01-P